NUCLEAR REGULATORY COMMISSION

Draft Regulatory Guide: Issuance, Availability

AGENCY: Nuclear Regulatory Commission.

ACTION: Issuance, Availability of Draft Regulatory Guide (DG)-3032.

FOR FURTHER INFORMATION CONTACT: B. Von Till, U.S. Nuclear Regulatory Commission, Washington, DC 20555-0001, telephone: (301) 415-0598 or e-mail RWV@nrc.gov.

SUPPLEMENTARY INFORMATION:

I. Introduction

The U.S. Nuclear Regulatory Commission (NRC) has issued for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Design, Construction, and Inspection of Embankment Retention Systems at Uranium Recovery Facilities,” is temporarily identified by its task number, DG-3032, which should be mentioned in all related correspondence.

This draft guide updates and combines the guidance currently found in Revision 2 of Regulatory Guide 3.11, “Design, Construction, and Inspection of Embankment Retention Systems for Uranium Mills,” and Revision 1 of Regulatory Guide 3.11.1, “Operational Inspection and Surveillance of Embankment Retention Systems for Uranium Mill Tailings.”

The mining and milling of uranium ores generates large volumes of liquid and solid wastes (tailings). These tailings are usually stored behind manmade retaining structures much like other commercial mining and milling operations. In addition, other liquid wastes from operations and ground-water corrective action activities at uranium recovery facilities are often retained behind evaporation pond embankments. This draft guide describes engineering practices and methods generally considered by the NRC to be satisfactory for the design, construction, and inspection of the embankment retention systems used for retaining liquid and solid wastes from uranium recovery operations. These practices and methods are the result of NRC review and action on a number of specific cases, and they reflect the latest engineering approaches acceptable to the NRC staff. If future information results in alternative methods, the NRC staff will review such methods to determine their acceptability.

The NRC staff is of the opinion that the latest advances in geotechnical engineering, together with engineering experience and knowledge available in the field of water storage dams and retention structures, can be used in the design and construction of uranium recovery retention systems. The basic concepts of conventional water storage impoundments can be suitably modified to produce economical designs that will ensure the stability of the retention system and minimal contamination. Draft Guide 3032 describes methods and processes the NRC finds acceptable for the design, construction, and inspection of embankment retention systems at uranium recovery facilities.

When finalized and issued, DG-3032 will be entered into the agency's “Regulatory Guide” series as Revision 3 of Regulatory Guide 3.11 where it will replace both Revision 2 of Regulatory Guide 3.11 and Revision 1 of Regulatory Guide 3.11.1.

II. Further Information

The NRC staff is soliciting comments on DG-3032. Comments may be accompanied by relevant information or supporting data, and should mention DG-3032 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: NRCREP@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-3032 may be directed to the NRC Senior Program Manager, B. Von Till at (301) 415-0598 or e-mail at RWV@nrc.gov.

Comments would be most helpful if received by May 16, 2008. Comments received after that date will be considered if it is practical to do so, but the NRC is able to ensure consideration only for comments received on or before this date. Although a time limit is given, comments and suggestions in connection with items for inclusion in guides currently being developed or improvements in all published guides are encouraged at any time.

Electronic copies of DG-3032 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML080180036.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 11th day of March, 2008.
For the Nuclear Regulatory Commission.
Andrea D. Valentin,
Chief, Regulatory Guide Development Branch, Division of Engineering, Office of Nuclear Regulatory Research.

[FR Doc. E8-5400 Filed 3-17-08; 8:45 am]

BILLING CODE 7590-01-P